DEPARTMENT OF THE INTERIOR

Fish and Wildlife Service

50 CFR Part 17

RIN 1018-AV05

Endangered and Threatened Wildlife and Plants; Designation of Critical Habitat for the Sierra Nevada Bighorn Sheep and Proposed Taxonomic Revision

AGENCY: Fish and Wildlife Service, Interior.

ACTION: Proposed rule; reopening of comment period and notice of public hearing.

SUMMARY: We, the U.S. Fish and Wildlife Service (Service) announce the reopening of the public comment period and the scheduling of one public hearing on the proposed critical habitat designation for the Sierra Nevada bighorn sheep (Ovis canadensis californiana) and proposed taxonomic revision under the Endangered Species Act of 1973, as amended (Act). This action will provide all interested parties with an additional opportunity to submit written comments on the proposed designation and taxonomic revision. Comments previously submitted need not be resubmitted as they have already been incorporated into the public record and will be fully considered in any final decision.

DATES: We will accept comments and information until 5 p.m. on November 23, 2007, or at the public hearing. Any comments received after the closing date may not be considered in the final decision on the proposed designation of critical habitat.

Public Informational Meetings: October 24, from 1 p.m. to 3 p.m., in Bridgeport, CA and October 25, 2007, from 4 p.m. to 5 p.m., in Bishop, CA.

Public Hearing: October 25, 2007, between 6 p.m. and 8 p.m., in Bishop, CA.

ADDRESSES: Public Informational Meetings: October 24, 2007, at the Memorial Hall, 744 N. School Street, Bridgeport, CA 93517, and October 25, 2007, at Tri-County Fair Grounds, Patio Room (patio area), Sierra Street and Fair Drive, Bishop, CA 93514.

Hearing: The public hearing will be held in the Tri-County Fair Grounds, Patio Room, Sierra Street and Fair Drive, Bishop, CA 93514.

Public Comments: Written comments and materials may be submitted to us by any one of the following methods:

1. You may submit written comments and information to Field Supervisor, Nevada Fish and Wildlife Office, 1340 Financial Boulevard, Suite 234, Reno, NV 89502-7147.

2. You may hand-deliver written comments and information to our office at the above address.

3. You may fax your comments to 775-861-6301.

4. You may send comments by electronic mail (e-mail) to: snbighorn@fws.gov. For directions on how to submit electronic filing of comments, see the “Public Comments Solicited” section below.

5. You may submit comments via the Federal Rulemaking Portal: http://www.regulations.gov. Follow the instructions for submitting comments.

The proposed rule is available on the Internet at http://www.fws.gov/nevada or in hard copy form by contacting the Nevada Fish and Wildlife Office. Comments and materials received, as well as supporting documentation used in preparation of the proposed critical habitat rule for the Sierra Nevada bighorn sheep, will be available for public inspection, by appointment, during normal business hours at the Nevada Fish and Wildlife Office.

FOR FURTHER INFORMATION CONTACT: Bob Williams, Field Supervisor, Nevada Fish and Wildlife Office (telephone 775-861-6300; facsimile 775-861-6301).

SUPPLEMENTARY INFORMATION:

Public Comments Solicited

We intend that any final action resulting from this proposal will be as accurate and as effective as possible. Therefore, we solicit comments or suggestions on this proposed rule from the public, other concerned governmental agencies, Tribes, the scientific community, industry, or any other interested parties concerning the proposed rule. We particularly seek comments concerning:

(1) The reasons why we should or should not designate habitat as “critical habitat” under section 4 of the Act (16 U.S.C. 1531 et seq.), including whether the benefit of designation will outweigh threats to the species caused by designation such that the designation of critical habitat is prudent;

(2) Specific information on:

• The amount and distribution of Sierra Nevada bighorn sheep habitat,

• What areas that were occupied at the time of listing and that contain the features essential for the conservation of the subspecies should be included in the designation and why, and

• What areas not occupied at the listing are essential to the conservation of the subspecies and why;

(3) Any proposed critical habitat areas covered by existing or proposed conservation or management plans that we should consider for exclusion from the designation under section 4(b)(2) of the Act. We specifically request comment on the appropriateness of including or excluding lands covered by: (a) The Sierra Nevada Bighorn Sheep Recovery and Conservation Plan (Sierra Nevada Bighorn Sheep Interagency Advisory Group 1984); (b) the Bighorn Sheep Management Plan (National Park Service 1986); (c) the Inyo National Forest Resource & Management Plan (U.S. Forest Service 1988); and (d) the Conservation Strategy for Sierra Nevada Bighorn Sheep (Sierra Nevada Bighorn Sheep Interagency Advisory Group 1997). We request comment on how these plans do or do not benefit or protect the Sierra Nevada bighorn sheep, or its primary constituent elements, and if the benefit or protection provided by these plans is equal to or greater than the benefit that would be provided by designation of critical habitat;

(4) Land use designations and current or planned activities in the subject areas and their possible impacts on proposed critical habitat;

(5) Any foreseeable economic, national security, or other potential impacts resulting from the proposed designation and, in particular, any impacts on small entities, and information about the benefits of including or excluding any areas that exhibit those impacts; and

(6) Whether we could improve or modify our approach to designating critical habitat in any way to provide for greater public participation and understanding, or to better accommodate public concerns and comments.

You may submit your comments and material concerning the above actions by any one of several methods (see ADDRESSES). If you use e-mail to submit your comments, please include “Attn: RIN 1018-AV05” in your e-mail subject header, preferably with your name and return address in the body of your message. If you do not receive a confirmation from the system that we have received your e-mail message, please contact the Nevada Fish and Wildlife Office at telephone number 775-861-6300. Please note that the e-mail address snbighorn@fws.gov will be closed out at the termination of the public comment period.

Before including your address, phone number, e-mail address, or other personal identifying information in your comment, you should be aware that your entire comment—including your personal identifying information—may be made publicly available at any time. While you can ask us in your comment to withhold your personal identifying information from public review, we cannot guarantee that we will be able to do so. Comments received will be available for public inspection, by appointment, during normal business hours at the Nevada Fish and Wildlife Office (see ADDRESSES section).

Comments and information submitted during the initial comment period on the proposed rule need not be resubmitted as they will be incorporated into the public record as part of this comment period and will be fully considered in preparation of the final rule.

Background

On July 25, 2007, we published a proposed rule in the Federal Register (72 FR 40956) to designate critical habitat for the Sierra Nevada bighorn sheep. Twelve critical habitat units, totaling approximately 417,577 acres (168,992 hectares), are proposed as critical habitat for the Sierra Nevada bighorn sheep. The proposed critical habitat is located within Tuolumne, Mono, Fresno, Inyo, and Tulare counties, California. For locations of these proposed units, please consult the proposed rule. The initial public comment period for the proposal critical habitat was open for 60 days, ending on September 24, 2007.

Critical habitat is defined by the Act as:

(i): The specific areas within the geographic area occupied by the species at the time of listing pursuant to section 4 of the Act, on which are found those physical or biological features (1) essential to the conservation of the species, and (2) which may require special management considerations or protection, and

(ii): Specific areas outside the geographic areas occupied by the species at the time of listing that the Secretary determines are essential for the conservation of the species.

If the proposed critical habitat designation is finalized, section 7(a)(2) of the Act would require that Federal agencies ensure that actions they fund, authorize, or carry out are not likely to jeopardize the continued existence of the species or result in the destruction or adverse modification of critical habitat.

Section 4(b)(2) of the Act requires that we designate or revise critical habitat on the basis of the best scientific and commercial data available, after taking into consideration the economic, National security, and any other relevant impact of specifying any particular area as critical habitat.

Public Hearings

Section 4(b)(5)(E) of the Act requires that a public hearing be held if any person requests a hearing within 45 days of the publication of a proposed rule. In response to a request from the Inyo County Board of Supervisors, the Service will conduct one public hearing on the date and at the address described in the DATES and ADDRESSES sections above.

Oral comments may be limited in length. Persons wishing to make an oral statement for the record are encouraged to provide a written copy of their statement and present it to us at the hearing. In the event there is a large attendance, the time allotted for oral statements may be limited. Oral and written statements receive equal consideration. There are no limits on the length of written comments submitted to us. If you have any questions concerning the public hearing, please contact the Nevada Fish and Wildlife Office (see ADDRESSES section).

Persons needing reasonable accommodations in order to attend and participate in the public hearing should contact Jeannie Stafford at 775-861-6300 as soon as possible. In order to allow sufficient time to process requests, please call no later than one week before the hearing date. Information regarding this proposal is available in alternative formats upon request.

Authority

The authority for this action is the Endangered Species Act of 1973 (16 U.S.C. 1531 et seq.).

Dated: September 21, 2007.
David M. Verhey,
Acting Assistant Secretary for Fish and Wildlife and Parks.

[FR Doc. E7-19596 Filed 10-5-07; 8:45 am]

BILLING CODE 4310-55-P